SECURITIES AND EXCHANGE COMMISSION

[Release No. 34-100678; File No. SR-CBOE-2024-005]

Self-Regulatory Organizations; Cboe Exchange, Inc.; Notice of Withdrawal of Proposed Rule Change To Permit Cboe To List and Trade Options on ETPs That Hold Bitcoin

August 8, 2024.

Pursuant to Section 19(b)(1) of the Securities Exchange Act of 1934 (“Act”) ¹ and Rule 19b-4 thereunder,² Cboe Exchange, Inc. (“Cboe”) filed with the Securities and Exchange Commission (“Commission”) a proposed rule change to permit Cboe to list and trade options on exchange-traded product shares that hold bitcoin (“Proposal”).

¹ 15 U.S.C. 78s(b)(1).

² 17 CFR 240.19b-4.

On January 25, 2024, the Proposal was published for comment in the Federal Register.³ On March 6, 2024, pursuant to Section 19(b)(2) of the Act,⁴ the Commission designated a longer period within which to approve the Proposal, disapprove the Proposal, or institute proceedings to determine whether to disapprove the Proposal.⁵ On April 24, 2024, the Commission instituted proceedings under Section 19(b)(2)(B) of the Act ⁶ to determine whether to approve or disapprove the Proposal.⁷ The Commission received comments addressing the Proposal.⁸ On July 19, 2024, the Commission designated a longer time for Commission action on the Proposal.⁹ On August 2, 2024, Cboe withdrew the Proposal (SR-CBOE-2024-005).

³ See Securities Exchange Act Release No. 99395 (Jan. 19, 2024), 89 FR 5075 (SR-CBOE-2024-005).

⁴ 15 U.S.C. 78s(b)(2).

⁵ See Securities Exchange Act Release No. 99680 (Mar. 6, 2024), 89 FR 17887 (Mar. 12, 2024).

⁶ 15 U.S.C. 78s(b)(2)(B).

⁷ See Securities Exchange Act Release No. 100024 (Apr. 24, 2024), 89 FR 34290 (Apr. 30, 2024).

⁸ Comment letters on the Proposal are available at https://www.sec.gov/comments/sr-cboe-2024-005/srcboe2024005.htm.

⁹ See Securities Exchange Act Release No. 100567 (Jul. 19, 2024), 89 FR 60482 (Jul. 25, 2024).

For the Commission, by the Division of Trading and Markets, pursuant to delegated authority.¹⁰
¹⁰ 17 CFR 200.30-3(a)(12).
Sherry R. Haywood,
Assistant Secretary.

[FR Doc. 2024-18076 Filed 8-13-24; 8:45 am]

BILLING CODE 8011-01-P